DEPARTMENT OF ENERGY

Federal Energy Regulatory Commission

[Project No. 10821-005]

Pacific Gas and Electric Company; Notice of Waiver Period for Water Quality Certification Application

On July 14, 2023, Pacific Gas and Electric Company (PG&E) submitted to the Federal Energy Regulatory Commission (Commission) a copy of its application for a Clean Water Act section 401(a)(1) water quality certification filed with the California State Water Resources Control Board (California Water Board), in conjunction with the above captioned project. Pursuant to section 401 of the Clean Water Act ¹ and section 4.34(b)(5) of the Commission's regulations,² a state certifying agency is deemed to have waived its certifying authority if it fails or refuses to act on a certification request within a reasonable period of time, which is one year after the date the certification request was received. Accordingly, we hereby notify the California Water Board of the following:

¹ 33 U.S.C. 1341(a)(1).

² 18 CFR 4.34(b)(5).

Date the California Water Board received the certification request: July 13, 2023.

If the California Water Board fails or refuses to act on the water quality certification request on or before July 13, 2024, then the agency certifying authority is deemed waived pursuant to section 401(a)(1) of the Clean Water Act, 33 U.S.C. 1341(a)(1).

Dated: July 14, 2023.
Debbie-Anne A. Reese,
Deputy Secretary.

[FR Doc. 2023-15423 Filed 7-19-23; 8:45 am]

BILLING CODE 6717-01-P